DEPARTMENT OF DEFENSE

Department of the Army

Notice of Intent To Grant a Partially Exclusive License; Symbiont Enterprises, Inc.

AGENCY: Department of the Army, DoD.

ACTION: Notice.

SUMMARY: In accordance with 35 U.S.C. 209(e) and 37 CFR 404(a)(1)(i), the Department of the Army announces the intent to grant a revocable, non-assignable, partially exclusive license to Symbiont Enterprises, Inc., Huntsville, AL, for the AWarE Video Elements (AVE) government-owned software for archiving and conducting searches of video data.

DATES: Anyone wishing to object to the grant of this license can file written objections, along with supporting evidence, if any, within 15 days from the date of this publication.

ADDRESSES: Written objections are to be filed with the Office of Research and Technology Applications, SDMC-RDTC-TDL (Ms. Susan D. McRae), Bldg. 5220, Von Braun Complex, Redstone Arsenal, AL 35898.

FOR FURTHER INFORMATION CONTACT: Ms. Joan Gilsdorf, Patent Attorney, e-mail: joan.gilsdorf@smdc.army.mil; (256) 955-3213 or Ms. Susan D. McRae, Office of Research and Technology Applications, e-mail: susan.mcrae@smdc.army.mil; (256) 955-1501.

Brenda S. Bowen,
Army Federal Register Liaison Officer.

[FR Doc. 07-586 Filed 2-8-07; 8:45 am]

BILLING CODE 3710-08-M